DEPARTMENT OF STATE

[Public Notice 8678]

Determination by the Secretary of State Relating to Iran Sanctions

AGENCY: Department of State.

This notice is to inform the public that the Secretary of State determined on March 4, 2014, pursuant to Section 1245(d)(4)(D) of the National Defense Authorization Act for Fiscal Year 2012 (NDAA) (Pub. L. 112-81), as amended by the Iran Threat Reduction and Syria Human Rights Act (Pub. L. 112-158), that as of March 4, 2014, each of the following purchasers of oil from Iran has qualified for the 180-day exception outlined in section 1245(d)(4)(D): Belgium, the Czech Republic, France, Germany, Greece, Italy, Netherlands, Poland, Spain, and the United Kingdom. The Secretary of State last made exception determinations under Section 1245(d)(4)(D) of the NDAA regarding these purchasers on September 6, 2013.

FOR FURTHER INFORMATION CONTACT: Carlos Pascual, Special Envoy and Coordinator, Bureau of Energy Resources, (202) 647-8543.

Dated: March 25, 2014.
Amos Hochstein,
Acting, Bureau of Energy Resources, Department of State.

[FR Doc. 2014-07251 Filed 3-31-14; 8:45 am]

BILLING CODE 4710-07-P